DEPARTMENT OF DEFENSE

Department of the Navy

Notice of Availability of Record of Decision for the Atlantic Fleet Training and Testing Final Supplemental Environmental Impact Statement/Overseas Environmental Impact Statement (ID# SEIS-007-17-USN-1723491961)

AGENCY: Department of the Navy (DoN), Department of Defense.

ACTION: Notice.

SUMMARY: In accordance with the National Environmental Policy Act and Executive Order 12114, the DoN announces its decision to conduct training and testing activities within the Atlantic Fleet Training and Testing (AFTT) Study Area as described in Alternative 1 of the AFTT Final Supplemental Environmental Impact Statement (EIS)/Overseas Environmental Impact Statement (OEIS).

SUPPLEMENTARY INFORMATION: Alternative 1 is the DoN's preferred alternative and is representative of an annual level of training and testing activities that accounts for the natural fluctuations of training cycles, deployment schedules, use of synthetic training opportunities, and testing programs.

The complete text of the Record of Decision (ROD) and the AFTT Final Supplemental EIS/OEIS is available on the project website at www.nepa.navy.mil/aftteis along with supporting documents. Single copies of the ROD are available upon request by contacting: Naval Facilities Engineering Systems Command Atlantic, Attention: Code EV22SG (AFTT EIS Project Managers), 6506 Hampton Boulevard, Norfolk, VA 23508-1278.

Dated: November 17, 2025.
A.R. DeMaio,
Lieutenant Commander, Judge Advocate General's Corps, U.S. Navy, Federal Register Liaison Officer.

[FR Doc. 2025-20280 Filed 11-18-25; 8:45 am]

BILLING CODE 3810-FF-P